FEDERAL MARITIME COMMISSION

[Docket No. 02-03]

Exclusive Tug Arrangements in Port Canaveral, FL; Notice of Investigation and Hearing

Notice is given that, on February 25, 2002, the Federal Maritime Commission (“Commission”) served an Order of Investigation and Hearing (“Order”) on the Canaveral Port Authority (“Port”).

The Port requires prospective suppliers of various services, including tug services, to obtain a franchise from the port. Tugz International, LLC (“Tugz”) filed an application for a tug and towing franchise in June 2000. At its July 21, 2000 hearing, the Port determined not to consider Tugz/ application. Tugz' application was updated in September 2001, and is still pending. On April 1, 2001, the Port extended the right of Seabulk Towing, Inc., dba Port Canaveral Towing (“Seabulk”) to perform towing services for another ten years.

This proceeding therefore seeks to determine whether the Port is in violation of sections 10(d)(1) and/or 10(d)(4) of the 1984 Act by its actions resulting in the continuation of Seabulk's monopoly. If so, this proceeding also shall determine whether civil penalties should be assessed and, if so, in what amount, and whether a cease and desist order should be issued.

Any person having an interest in participating in this proceeding may file a petition for leave to intervene in accordance with Rule 72 of the Commission's rules of practice and procedure, 46 CFR 502.72.

Bryant L. VanBrakle,
Secretary.

[FR Doc. 02-6077 Filed 3-12-02; 8:45 am]

BILLING CODE 6730-01-M